INTERNATIONAL TRADE COMMISSION

[Investigation No. 731-TA-991 (Third Review)]

Silicon Metal From Russia

Determination

On the basis of the record ¹ developed in the subject five-year review, the United States International Trade Commission (“Commission”) determines, pursuant to the Tariff Act of 1930 (“the Act”), that revocation of the antidumping duty order on silicon metal from Russia would be likely to lead to continuation or recurrence of material injury to an industry in the United States within a reasonably foreseeable time.

¹ The record is defined in sec. 207.2(f) of the Commission's Rules of Practice and Procedure (19 CFR 207.2(f)).

Background

The Commission instituted this review on June 3, 2019 (84 FR 25561) and determined on September 6, 2019 that it would conduct a full review (84 FR 49763, September 23, 2019). Notice of the scheduling of the Commission's review and of a public hearing to be held in connection therewith was given by posting copies of the notice in the Office of the Secretary, U.S. International Trade Commission, Washington, DC, and by publishing the notice in the Federal Register on December 10, 2019 (84 FR 67475). In light of the restrictions on access to the Commission building due to the COVID-19 pandemic, and in accordance with 19 U.S.C. 1677c(a)(1), the Commission did not cancel its hearing scheduled for March 31, 2020, but conducted its hearing through a series of written questions, submissions of written testimony, written responses to questions, posthearing briefs, and closing statements presented via video and teleconference; all persons who requested the opportunity were permitted to participate.

The Commission made this determination pursuant to section 751(c) of the Act (19 U.S.C. 1675(c)). It completed and filed its determination in this review on May 28, 2020. The views of the Commission are contained in USITC Publication 5058 (May 2020), entitled Silicon Metal from Russia: Investigation No. 731-TA-991 (Third Review).

By order of the Commission.
Issued: May 28, 2020.
Lisa Barton,
Secretary to the Commission.

[FR Doc. 2020-11914 Filed 6-2-20; 8:45 am]

BILLING CODE 7020-02-P